DEPARTMENT OF THE INTERIOR

Bureau of Land Management

[MT-072-1220-EB]

Notice of Final Supplementary Rules for Developed Recreation Sites Within the Area Managed by the Butte Field Office; Montana

AGENCY: Bureau of Land Management, Interior.

ACTION: Notice.

SUMMARY: The Bureau of Land Management (BLM), Butte Field Office, is implementing supplementary rules. These supplementary rules will apply to the public lands within developed recreation sites managed by the Butte Field Office. The BLM has determined these supplementary rules are necessary to: Protect natural resources in the areas; protect public health; enhance the safety of area visitors and neighboring residents; and provide a more equitable means for visitors to obtain overnight camping units within developed recreation sites where demand is the highest.

EFFECTIVE DATE: The rules are effective February 10, 2005.

ADDRESSES: Bureau of Land Management, Butte Field Office, 106 N. Parkmont, Butte, Montana 59701, MT_Butte_FO@blm.gov.

FOR FURTHER INFORMATION CONTACT: Brad Rixford, Outdoor Recreation Planner, 106 N. Parkmont, Butte, Montana 59701; at telephone number 406-533-7600.

SUPPLEMENTARY INFORMATION:

I. Background

The BLM is establishing these supplementary rules under the authority of 43 CFR 8365.1-6, which allows BLM State Directors to establish such rules for the protection of persons, property, and public lands and resources. This provision allows the BLM to issue rules of less than national effect without codifying the rules in the Code of Federal Regulations. Upon completion, the rules will be available for inspection in the Butte Field Office; the rules will be posted at the sites, and will be published in a newspaper of general circulation in the affected vicinity.

The overall program authority for the operation of these developed recreation sites is found in sections 302 and 310 of the Federal Land Policy and Management Act of 1976 (43 U.S.C. 1732, 1740).

The developed recreation sites where fees are charged are managed under the Recreation Fee Demonstration Project, which allows the BLM to collect fees and use the revenues for the management of recreation sites within the state where the fees are collected. BLM published these rules on September 15, 2004 (69 FR 55651).

II. Areas Covered by the Supplementary Rules

The supplementary rules containing rules of conduct apply to all developed recreation sites within the area managed by the Butte Field Office. A second set of the supplementary rules relating to permits and camp unit administration apply to all recreation fee sites managed by the Butte Field Office.

III. Discussion of the Supplementary Rules

The following provides a summary background of the rules of conduct in section 1 of the supplementary rules and the administrative rules in section 2 may need a background summary.

a. We require that you pay for boat ramp and other day-use facilities before you launch or otherwise use them, rather than waiting for the end of the day when you may be in a hurry to return home. For those camping in recreation fee sites, BLM personnel will advise you what units are available. Once you select a camp unit, you must return to the entrance station to make payment and complete your registration.

b. Each camp unit has a wooden post to which you must attach your payment receipt. This way, we can see that you are properly registered without searching around your vehicle or otherwise bothering you during your visit.

c. We have had problems with people claiming or holding camp units for friends arriving later by placing coolers, deck chairs, vehicles, or other equipment on the units. This is unfair to other visitors. Our camp units are available on a first-come, first-served basis.

d. Because of increased demand for camping units within our developed recreation sites, we have reduced the length-of-stay rule from 14 days to seven days for some recreation sites, as listed.

e. With respect to visitors' claiming extra boat dock slips, the reasoning applied to the claiming of extra camp units in paragraph c., discussed above, applies equally to extra boat dock slips.

f. We have had problems with vandalism and after-dark keg parties getting out of hand at the Clark's Bay day-use recreation site, so we close the site temporarily each day to vehicles and social gatherings from dusk to 9 a.m., from May through September, and for the entire day from October through April. Individuals wishing to hike, jog, walk their dogs, or otherwise make pedestrian use of the site during the closure periods are welcome to do so.

IV. Discussion of Public Comments

No comments were received and, consequently, no discussion is needed.

V. Procedural Matters

Executive Order 12866, Regulatory Planning and Review

These supplementary rules are not a significant regulatory action and are not subject to review by the Office of Management and Budget under Executive Order 12866. These supplementary rules will not have an effect of $100 million or more on the economy. They are not intended to affect commercial activity, but contain rules of conduct for public use of certain recreational sites. They will not adversely affect, in a material way, the economy, productivity, competition, jobs, the environment, public health or safety, or State, local, or tribal governments or communities. These proposed supplementary rules will not create a serious inconsistency or otherwise interfere with an action taken or planned by another agency. The supplementary rules do not alter the budgetary effects of entitlements, grants, user fees, or loan programs or the right or obligations of their recipients; nor do they raise novel legal or policy issues.

National Environmental Policy Act

The BLM has prepared an environmental assessment (EA) or management agreement and has found that the supplementary rules do not constitute a major Federal action significantly affecting the quality of the human environment under section 102(2)(C) of the Environmental Protection Act of 1969 (NEPA), 42 U.S.C. 4332(2)(C). The supplementary rules merely contain rules of conduct for certain recreational lands in Montana. These rules are designed to protect the environment and the public health and safety. A detailed statement under NEPA is not required. BLM has placed the EA and the Finding of No Significant Impact (FONSI) on file in the BLM Administrative Record at the address specified in the ADDRESSES section.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but to public recreational use of specific public lands. Therefore, the BLM has determined, under the RFA, that these supplementary rules will not have a significant economic impact on a substantial number of small entities.

Small Business Regulatory Enforcement Fairness Act (SBREFA)

These supplementary rules do not constitute a “major rule” as defined at 5 U.S.C. 804(2). Again, the supplementary rules merely contain rules of conduct for recreational use of certain public lands. The supplementary rules have no effect on business, commercial, or industrial use of the public lands.

Unfunded Mandates Reform Act

These supplementary rules do not impose an unfunded mandate on State, local or tribal governments or the private sector of more than $100 million per year; nor do these supplementary rules have a significant or unique effect on State, local, or tribal governments or the private sector. The supplementary rules do not require anything of State, local, or tribal governments. Therefore, the BLM is not required to prepare a statement containing the information required by the Unfunded Mandates Reform Act (2 U.S.C. 1531 et seq.).

Executive Order 12630, Governmental Actions and Interference With Constitutionally Protected Property Rights (Takings)

These supplementary rules do not represent a government action capable of interfering with constitutionally protected property rights. The supplementary rules do not address property rights in any form, and do not cause the impairment of anybody's property rights. Therefore, the Department of the Interior has determined that these supplementary rules do not cause a taking of private property or require further discussion of takings implications under Executive Order 12630.

Executive Order 13132, Federalism

These supplementary rules do not have a substantial direct effect on the States, on the relationship between the national government and the States, or on the distribution of power and responsibilities among the various levels of government. The supplementary rules affect land in only one state, Montana, and do not address jurisdictional issues involving the State government. Therefore, in accordance with Executive Order 13132, the BLM has determined that these supplementary rules do not have sufficient Federalism implications to warrant preparation of a Federalism Assessment.

Executive Order 12988, Civil Justice Reform

Under Executive Order 12988, the Office of the Solicitor has determined that these supplementary rules do not unduly burden the judicial system and that they meet the requirements of sections 3(a) and 3(b)(2) of the Order.

Paperwork Reduction Act

These supplementary rules do not contain information collection requirements that the Office of Management and Budget must approve under the Paperwork Reduction Act, 44 U.S.C. 3501 et seq.

Supplementary Rules

Section 1: Under 43 CFR 8365.1-6, the Bureau of Land Management will enforce the following rules for developed recreation sites within the area managed by the Butte Field Office, Montana.

a. You may not engage in any activities that disturb other campers between 10 p.m. and 7 a.m.

b. Your pets must be controlled on leashes and their droppings picked up and disposed of.

c. You must not swim outside of designated, roped-off areas.

d. You may not bring livestock into a developed recreation site.

e. You may not claim or hold extra camp units for yourself or others.

f. You may only use day-use docks for short term (10 minutes) loading and unloading.

g. You must not leave your camp unit or any property unattended for more than a period of 24 consecutive hours.

Section 2: In addition to the rules in Section 1 of these supplementary rules, the following additional rules apply to all recreation fee sites managed by the Butte Field Office.

a. You must pay established fees, and fill out all registration material, in advance of using a boat ramp or other day-use facility, or immediately upon selecting a camp unit.

b. You must display your receipt of payment at your camp unit post for overnight camping or, for day-use facilities, on the dashboard of your vehicle in a clearly visible manner.

c. You must not camp or hold any camp unit longer than seven (7) consecutive days. This rule is limited to Holter Lake, Log Gulch, and Departure Point Recreation Sites.

d. You may not use overnight dock slips unless you are a paid, overnight camper.

e. You may not claim or hold extra boat dock slips for yourself or others.

f. You must not drive a motor vehicle into the Clark's Bay day-use site, or use the day-use site for social gatherings, after dusk until 9 a.m. the following day during the months of May through September, nor shall you conduct these uses in the site at any time during the months of October through April. Individuals wishing to make pedestrian use of the site during the closure periods are welcome to do so.

Penalties: On public lands, under section 303(a) of the Federal Land Policy and Management Act of 1976 (43 U.S.C. 1733(a)) and 43 CFR 8360.0-7 any person who violates any of these supplementary rules within the boundaries established in the rules may be tried before a United States Magistrate and fined no more than $1,000 or imprisoned for no more than 12 months, or both. Such violations may also be subject to the enhanced fines provided for by 18 U.S.C. 3571.

Dated: December 28, 2004.
Martin C. Ott,
State Director.

[FR Doc. 05-2540 Filed 2-9-05; 8:45 am]

BILLING CODE 4310-$$-P